DEPARTMENT OF HEALTH AND HUMAN SERVICES

National Institutes of Health

Office of the Director, National Institutes of Health Amended Notice of Meeting

Notice is hereby given of a change in the meeting of the Council of Councils, September 07, 2023, Partially Closed Meeting that was published in the Federal Register on August 08, 2023, 88 FR 53504.

The publication is being amended to change the open session end time “3:15 p.m.” to “3:00 p.m.”. In the amended portion of the notice, the open session end time of the Council of Councils meeting was listed in error. The meeting is partially closed to the public.

Dated: August 25, 2023.
David W. Freeman,
Supervisory Program Analyst, Office of Federal Advisory Committee Policy.

[FR Doc. 2023-18880 Filed 8-30-23; 8:45 am]

BILLING CODE 4140-01-P